DEPARTMENT OF HOMELAND SECURITY

[Docket ID FEMA-2014-0022]

Technical Mapping Advisory Council; Meeting

AGENCY: Federal Emergency Management Agency, DHS

ACTION: Notice of federal advisory committee meeting.

SUMMARY: The Federal Emergency Management Agency (FEMA) Technical Mapping Advisory Council (TMAC) will hold an in-person public meeting with a virtual option on Tuesday, June 13, 2023, and Wednesday, June 14, 2023. The meeting will be open to the public in-person and via a Microsoft Teams Video Communications link.

DATES: The TMAC will meet on Tuesday, June 13, 2023, and Wednesday, June 14, 2023, from 8:00 a.m. to 5:00 p.m. Eastern Time (ET). Please note that the meeting will close early if the TMAC has completed its business.

ADDRESSES: The meeting will be held in-person at ADDRESS to be inserted at a later date], and virtually using the following Microsoft Teams Video Communications link (Tuesday Link: https://tinyurl.com/5h427wau; Wednesday Link: https://tinyurl.com/5n7yutnm). Members of the public who wish to attend the in-person or virtual meeting must register in advance by sending an email to FEMA-TMAC@fema.dhs.gov (Attn: Brian Koper) by 5:00 p.m. ET on Friday, June 9, 2023.

To facilitate public participation, members of the public are invited to provide written comments on the issues to be considered by the TMAC, as listed in the SUPPLEMENTARY INFORMATION caption below. Associated meeting materials will be available upon request after Tuesday, June 6, 2023. The draft 2022 TMAC Annual Report will be available for review after Tuesday, June 6, 2023. To receive a copy of any relevant materials, please send the request to: FEMA-TMAC@fema.dhs.gov (Attn: Brian Koper). Written comments to be considered by the committee at the time of the meeting must be submitted and received by Wednesday, June 7, 2023, 5:00 p.m. ET identified by Docket ID FEMA-2014-0022, and submitted by one of the following methods:

• Federal eRulemaking Portal: http://www.regulations.gov. Follow the instructions for submitting comments.

• Email: Address the email to: FEMA-TMAC@fema.dhs.gov. Include the docket number in the subject line of the message. Include name and contact information in the body of the email.

• Instructions: All submissions received must include the words “Federal Emergency Management Agency” and the docket number for this action. Comments received will be posted without alteration at http://www.regulations.gov, including any personal information provided. You may wish to review the Privacy & Security Notice via a link on the homepage of www.regulations.gov.

• Docket: For docket access to read background documents or comments received by the TMAC, go to http://www.regulations.gov and search for the Docket ID FEMA-2014-0022.

A public comment period will be held on Tuesday, June 13, 2023, from 3:30 p.m. to 4:00 p.m. ET and Wednesday, June 14, 2023, from 12:00 p.m. to 12:30 p.m. ET. The public comment period will not exceed 30 minutes. Please note that the public comment period may end before the time indicated, following the last call for comments. Contact the individual listed below to register as a speaker by Wednesday, June 7, 2023, 5:00 p.m. ET. Please be prepared to submit a written version of your public comment.

FEMA is committed to ensuring all participants have equal access regardless of disability status. If you require a reasonable accommodation due to a disability to fully participate, please contact the individual listed in the FOR FURTHER INFORMATION CONTACT caption as soon as possible.

FOR FURTHER INFORMATION CONTACT: Brian Koper, Designated Federal Officer for the TMAC, FEMA, 400 C Street SW, Washington, DC 20472, telephone 202-646-3085, and email brian.koper@fema.dhs.gov. The TMAC website is: https://www.fema.gov/flood-maps/guidance-partners/technical-mapping-advisory-council.

SUPPLEMENTARY INFORMATION: Notice of this meeting is given under the Federal Advisory Committee Act, Public Law 117-286, 5 U.S.C. ch. 10.

In accordance with the Biggert-Waters Flood Insurance Reform Act of 2012, the TMAC makes recommendations to the FEMA Administrator on: (1) how to improve, in a cost-effective manner, the (a) accuracy, general quality, ease of use, and distribution and dissemination of flood insurance rate maps and risk data; and (b) performance metrics and milestones required to effectively and efficiently map flood risk areas in the United States; (2) mapping standards and guidelines for (a) flood insurance rate maps, and (b) data accuracy, data quality, data currency, and data eligibility; (3) how to maintain, on an ongoing basis, flood insurance rate maps and flood risk identification; (4) procedures for delegating mapping activities to State and local mapping partners; and (5) (a) methods for improving interagency and intergovernmental coordination on flood mapping and flood risk determination, and (b) a funding strategy to leverage and coordinate budgets and expenditures across Federal agencies. Furthermore, the TMAC is required to submit an annual report to the FEMA Administrator that contains: (1) a description of the activities of the Council; (2) an evaluation of the status and performance of flood insurance rate maps and mapping activities to revise and update Flood Insurance Rate Maps; and (3) a summary of recommendations made by the Council to the FEMA Administrator.

Agenda: The purpose of this meeting is for the TMAC members to discuss the content of the 2023 TMAC Annual Report. Any related materials will be available upon request prior to the meeting to provide the public an opportunity to review the materials. The full agenda and related meeting materials will be available upon request by Tuesday, June 6, 2023. To receive a copy of any relevant materials, please send the request to: FEMA-TMAC@fema.dhs.gov (Attn: Brian Koper).

Nicholas A. Shufro,
Deputy Assistant Administrator for Risk Management, Federal Insurance and Mitigation Administration, Resilience, Federal Emergency Management Agency, Department of Homeland Security.

[FR Doc. 2023-11425 Filed 5-26-23; 8:45 am]

BILLING CODE 9110-12-P